DEPARTMENT OF TRANSPORTATION

Coast Guard

33 CFR Part 117

[CGD01-00-134]

Drawbridge Operation Regulations: Hackensack River, NJ.

AGENCY: Coast Guard, DOT.

ACTION: Notice of temporary deviation from regulations.

SUMMARY: The Commander, First Coast Guard District has issued a temporary deviation from the existing drawbridge regulations for the AMTRAK Portal Bridge, mile 5.0, across the Hackensack River at Little Snake Hill, New Jersey. This deviation allows the bridge owner to keep the bridge in the closed position from 7 a.m. June 3 through 7 a.m. June 4 and from 7 a.m. June 10 through 7 a.m. June 11, 2000. This deviation is necessary to facilitate necessary repairs to the bridge.

DATES: This deviation is effective at 7 a.m. on June 3, 2000 through 7 a.m. on June 11, 2000.

FOR FURTHER INFORMATION CONTACT: Ms. Judy Yee, Project Officer, First Coast Guard District, (212) 668-7165.

SUPPLEMENTARY INFORMATION: The AMTRAK Portal Bridge has a vertical clearance of 23 feet at mean high water and 28 feet at mean low water. The existing regulations for the bridge in 33 CFR 117.723(c) require the bridge need not be opened Monday through Friday, except federal holidays, from 7:20 a.m. to 9:20 a.m. and from 4:30 p.m. to 6:50 p.m. At all other times, openings may not be delayed for more than 10 minutes, unless the drawtender and the vessel operator communicating by radiotelephone, agree to a longer delay.

The bridge owner, AMTRAK, asked the Coast Guard to allow the bridge to remain closed from 7 a.m. on June 3, 2000 through 7 a.m. on June 4, 2000 and from 7 a.m. June 10, 2000 through 7 a.m. June 11, 2000. This deviation is necessary to facilitate repairs to the brakes at the bridge.

In accordance with 33 CFR 117.35(c), this work will be performed with all due speed in order to return the bridge to normal operation as soon as possible. This deviation is authorized under 33 CFR 117.35.

Dated: May 16, 2000.
G.N. Naccara,
Rear Admiral, U.S. Coast Guard Commander, First Coast Guard District.

[FR Doc. 00-13043 Filed 5-23-00; 8:45 am]

BILLING CODE 4910-15-U